NUCLEAR REGULATORY COMMISSION

10 CFR Part 50

[NRC-2022-0159]

Regulatory Guide: Maintenance, Testing, and Replacement of Vented Lead-Acid Storage Batteries for Production and Utilization Facilities

Correction

In rule document 2023-06285, appearing on pages 18005 through 18006, in the issue of Monday, March 27, 2023, the subject line is corrected to read as set forth above.

[FR Doc. C1-2023-06285 Filed 3-30-23; 8:45 am]

BILLING CODE 0099-10-D